DEPARTMENT OF JUSTICE

Notice of Lodging of Amended Consent Decree Under the Comprehensive Environmental Response, Compensation and Liability Act

Notice is hereby given that on November 4, 2005, a proposed Amended Consent Decree in United States v. Tecumseh Products Company, Civil Action No. 03-C-401 (E.D. Wisc.) was lodged with the United States District Court for the Eastern District of Wisconsin.

In this action, the United States seeks the implementation of response actions at, and the reimbursement, pursuant to the Comprehensive Environmental Response, Compensation and Liability Act, 42 U.S.C. 9601, et seq., (“CERCLA”), of costs incurred by the United States in responding to a release or threat of release of hazardous substances in, the Upper River section of the Sheboygan River and Harbor Superfund Site in Sheboygan County, Wisconsin (the “Site”). The United States alleges that Tecumseh Products Company (“Tecumseh”) arranged for disposal of hazardous substances in the Upper River portion of the Site and therefore is liable for the reimbursement of response costs and the performance of response actions under CERCLA.

On May 12, 2004, the United States District Court for the Eastern District of Wiscon approved and entered a Consent Decree that requires Tecumseh to: (1) Implement those components of the remedy set forth in a May 12, 2004 U.S. EPA Record of Decision that address the Upper River section of the Site: (2) pay at least $2.1 million towards the United States' past site past response costs, which total approximately $3.42 million; and (3) pay all future Upper River response costs incurred by the United States.

Under the proposed Amended Consent Decree, a third party, designated a “Work Party,”would become party to the Amended Consent Decree and would be jointly and severally liable for completing the cleanup of the Upper River Section of the Site. Tecumseh, however, will continue to be liable for completion of the remedy. The Work Party has signed the Amended Consent Decree, and under the Decree's terms, the Work Party has voluntarily subjected itself to the jurisdiction of this Court and agreed to be bound by the terms of the Amended Consent Decree.

The Department of Justice will receive, for a period of thirty (30) days from the date of this publication, comments relating to the proposed Amendzed Consent Decree. Comments should be addressed to the Assistant Attorney Genera, Environmental and Natural Resources Division, P.O. Box 7611, U.S. Department of Justice, Washington, DC 20044-7611, and should refer to United States v. Tecumseh Products Company, DOJ Ref. #90-11-2-06440.

The proposed Amended Consent Decree may be examined at the office of the United States Attornety for the Eastern District of Wisconsin, 530 Federal Building, 517 East Wisconsin Avenue, Milwaukee 53202, and at U.S. EPA Region 5, 77 West Jackson Boulevard, Chicago, IL 60604. During the public comment period, the proposed Amended Consent Decree may also be examined on the following department of Justice Web site, http://www.usdoj.gov/enrd/open.html. A copy of the Consent Decree may also be obtained by mail from the Consent Decree Librar, P.O. Box 7611, U.S. Department of Justice, Washington, DC 20044-7611, or by faxing a request to Tonia Fleetwood, fax no. (202) 514-0097, phone confirmation number (202) 514-1547. In requesting a copy, please refer to the referenced case and enclose a check in the amount of $24.50 (25 cents per page reproduction costs) (Amended Consent Decree only) or $75.25 (Amended Consent Decree and all appendices), payable to the U.S. Treasury.

William D. Brighton,
Assistant Chief, Environmental Enforcement Section, Environment and Natural Resources Division.

[FR Doc. 05-22738 Filed 11-15-05; 8:45 am]

BILLING CODE 4410-15-M